DEPARTMENT OF TRANSPORTATION

Federal Aviation Administration

14 CFR Part 39

[Docket No. FAA-2004-19534; Directorate Identifier 2004-NM-99-AD; Amendment 39-14198; AD 2005-15-09]

RIN 2120-AA64

Airworthiness Directives; Airbus Model A300 B2 and B4 Series Airplanes; Model A300 B4-600, B4-600R, and F4-600R Series Airplanes, and Model A300 C4-605R Variant F Airplanes (Collectively Called A300-600 Series Airplanes); and Model A310-200 and -300 Series Airplanes

AGENCY: Federal Aviation Administration (FAA), Department of Transportation (DOT).

ACTION: Final rule.

SUMMARY: The FAA is adopting a new airworthiness directive (AD) for certain Airbus airplane models, as specified above. This AD requires modifying the thermal insulation system of certain fuselage frames, and modifying the fuselage drainage system. This AD also requires revising the FAA-approved maintenance inspection program to include inspections for corrosion or cracking in the subject areas. This AD is prompted by reports of corrosion in the lower part of the pressure bulkhead at certain fuselage frames. We are issuing this AD to prevent accumulation of condensation in the insulation blankets of certain fuselage frames, which could cause corrosion that could result in reduced structural integrity of the fuselage and consequent rapid decompression of the airplane.

DATES: This AD becomes effective August 30, 2005.

The incorporation by reference of certain publications listed in the AD is approved by the Director of the Federal Register as of August 30, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19534; the directorate identifier for this docket is 2004-NM-99-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend part 39 of the Federal Aviation Regulations (14 CFR part 39) with an AD for certain Airbus Model A300 B2 and B4 series airplanes; Model A300 B4-600, B4-600R, and F4-600R series airplanes, and Model A300 C4-605R Variant F airplanes (collectively called A300-600 series airplanes); and Model A310-200 and -300 series airplanes. That proposed AD was published as a supplemental notice of proposed rulemaking (NPRM) in the Federal Register on May 18, 2005 (70 FR 28491). The supplemental NPRM proposed to require modifying the thermal insulation system of certain fuselage frames, and modifying the fuselage drainage system. The supplemental NPRM also proposed to require revising the FAA-approved maintenance inspection program to include inspections for corrosion or cracking in the subject areas.

Comments

We provided the public the opportunity to participate in the development of this AD. No comments have been submitted on the supplemental NPRM or on the determination of the cost to the public. Comments submitted on the original NPRM were addressed in the supplemental NPRM.

Explanation of Change to Applicability

We have revised the applicability of this AD to identify model designations as published in the most recent type certificate data sheet for the affected models.

Conclusion

We have carefully reviewed the available data, and determined that air safety and the public interest require adopting the AD with the change described previously. We have determined that this change will neither increase the economic burden on any operator nor increase the scope of the AD.

Costs of Compliance

The following table provides the estimated costs for U.S. operators to comply with this AD, at an average labor rate of $65 per work hour.

Estimated Costs
Action | Models | Work hours | Parts | Cost per airplane | Number of U.S.-registered airplanes | Fleet cost
Modifying the Thermal Insulation System | A300 B2/B4 series | 5 | $567 | $892 | 23 | $20,516
Modifying the Thermal Insulation System | A300-600 series | 4 | 567 | 827 | 116 | 95,932
Modifying the Thermal Insulation System | A310-200 and -300 series | 4 | 567 | 827 | 47 | 38,869
Modifying the Fuselage Drainage System | A300 B2/B4 series | 38 | 1,857 | 4,327 | 23 | 99,521
Modifying the Fuselage Drainage System | A300-600 series | 36 | 1,378 | 3,718 | 116 | 431,288
Modifying the Fuselage Drainage System | A310-200 and -300 series | 27 | 1,451 | 3,206 | 47 | 150,682
Maintenance Program Revision | All |  | (¹) | 65 | 186 | 12,090
¹ None.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-15-09 Airbus: Amendment 39-14198. Docket No. FAA-2004-19534; Directorate Identifier 2004-NM-99-AD.

Effective Date

(a) This airworthiness directive (AD) becomes effective August 30, 2005.

Affected ADs

(b) None.

Applicability

(c) This AD applies to Airbus Model A300 B2-1A, B2-1C, B2K-3C, B4-2C, B4-103, and B4-203 airplanes; A300 B4-601, B4-603, B4-620, B4-622, B4-605R, B4-622R, F4-605R, F4-622R, and C4-605R Variant F airplanes; and A310-203, -204, -221, -222, -304, -322, -324, and -325 airplanes; certificated in any category; except those on which both Airbus Modifications 5946 and 8057 were done during production.

Unsafe Condition

(d) This AD was prompted by reports of corrosion in the lower part of the pressure bulkhead at fuselage frames (FR) 39 and 54. We are issuing this AD to prevent accumulation of condensation in the insulation blankets of certain fuselage FRs, which could cause corrosion that could result in reduced structural integrity of the fuselage and consequent rapid decompression of the airplane.

Compliance

(e) You are responsible for having the actions required by this AD performed within the compliance times specified, unless the actions have already been done.

Modification of Thermal Insulation and Fuselage Drainage Systems

(f) Within 22 months after the effective date of this AD, modify the thermal insulation system of applicable fuselage frames and modify the fuselage drainage system, by doing all actions in the Accomplishment Instructions of the applicable service bulletins specified in Table 1 of this AD.

Table 1.—Relevant Service Bulletins
For Airbus models— | Modify the thermal insulation system according to Airbus Service Bulletin— | And modify the fuselage drainage system according to Airbus Service Bulletin—
A300 B2-1A, B2-1C, B2K-3C, B4-2C, B4-103, and B4-203 | A300-21-0116, Revision 03, dated January 29, 2004 | A300-53-0201, Revision 05, dated July 15, 2004.
A300 B4-601, B4-603, B4-620, B4-622, B4-605R, B4-622R, F4-605R, F4-622R, and C4-605R Variant F | A300-21-6025, Revision 02, dated January 29, 2004 | A300-53-6008, Revision 05, dated July 15, 2004.
A310-203, -204, -221, -222, -304, -322, -324, and -325 | A310-21-2041, Revision 03, dated January 29, 2004 | A300-53-2027, Revision 04, dated July 15, 2004.

Modifications Accomplished According to Previous Issues of Service Bulletins

(g) Modifications accomplished before the effective date of this AD according to the service bulletins listed in Table 2 are considered acceptable for compliance with the corresponding action specified in paragraph (f) of this AD.

Table 2.—Additional Service Bulletins
Models | Airbus Service Bulletin | Revision level | Date
A300 B2-1A, B2-1C, B2K-3C, B4-2C, B4-103, and B4-203 | A300-21-116 | 1 | March 24, 1992.
A300 B2-1A, B2-1C, B2K-3C, B4-2C, B4-103, and B4-203 | A300-21-0116 | 02 | June 13, 2003.
A300 B2-1A, B2-1C, B2K-3C, B4-2C, B4-103, and B4-203 | A300-53-0201 | 04 | May 2, 2003.
A300 B4-601, B4-603, B4-620, B4-622, B4-605R, F4-605R, F4-622R, B4-622R, and C4-605R Variant F | A300-21-6025 | 01 | June 13, 2003.
A300 B4-601, B4-603, B4-620, B4-622, B4-605R, F4-605R, F4-622R, B4-622R, and C4-605R Variant F | A300-53-6008 | 02 | August 10, 1989.
A300 B4-601, B4-603, B4-620, B4-622, B4-605R, F4-605R, F4-622R, B4-622R, and C4-605R Variant F | A300-53-6008 | 03 | November 6, 1990.
A300 B4-601, B4-603, B4-620, B4-622, B4-605R, F4-605R, F4-622R, B4-622R, and C4-605R Variant F | A300-53-6008 | 04 | April 28, 2003.
A310-203, -204, -221, -222, -304, -322, -324, and -325 | A310-21-2041 | 1 | December 10, 1990.
A310-203, -204, -221, -222, -304, -322, -324, and -325 | A310-21-2041 | 02 | June 13, 2003.
A310-203, -204, -221, -222, -304, -322, -324, and -325 | A310-53-2027 | 2 | November 6, 1990.
A310-203, -204, -221, -222, -304, -322, -324, and -325 | A310-53-2027 | 03 | May 2, 2003.

Maintenance Program Revision

(h) Within 90 days after doing the actions required by paragraph (f) of this AD, or within 90 days after the effective date of this AD, whichever is later: Incorporate into the FAA-approved maintenance inspection program repetitive detailed inspections for corrosion or cracking of fuselage structure from FR 38.2 to 39, and at FR 54, as applicable, as described in Airbus Maintenance Planning Document Task Numbers 538295-0603-1 (for Airbus Model A300 B2-1A, B2-1C, B2K-3C, B4-2C, B4-103, and B4-203 airplanes), and 531531-01-1 and 531533-01-1 (for Airbus Model A300 B4-601, B4-603, B4-620, B4-622, B4-605R, F4-605R, F4-622R, B4-622R, and C4-605R Variant F airplanes; and A310-203, -204, -221, -222, -304, -322, -324, and -325 airplanes). Then, thereafter, comply with the applicable requirements.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(i) The Manager, International Branch, ANM-116, Transport Airplane Directorate, FAA, has the authority to approve AMOCs for this AD, if requested in accordance with the procedures found in 14 CFR 39.19.

Related Information

(j) French airworthiness directive 2003-317(B), dated August 20, 2003, also addresses the subject of this AD.

Material Incorporated by Reference

(k) You must use the service information that is specified in Table 3 of this AD to perform the actions that are required by this AD, unless the AD specifies otherwise. The Director of the Federal Register approves the incorporation by reference of these documents in accordance with 5 U.S.C. 552(a) and 1 CFR part 51. To get copies of the service information, contact Airbus, 1 Rond Point Maurice Bellonte, 31707 Blagnac Cedex, France. To view the AD docket, go to the Docket Management Facility, U.S. Department of Transportation, 400 Seventh Street SW, room PL-401, Nassif Building, Washington, DC. To review copies of the service information, go to the National Archives and Records Administration (NARA). For information on the availability of this material at the NARA, call (202) 741-6030, or go to http://www.archives.gov/federal_ register/code_of_ federal_ regulations/ibr_locations.html.

Table 3.—Material Incorporated by Reference
Airbus Service Bulletin | Revision level | Date
A300-21-0116 | Revision 03 | January 29, 2004.
A300-21-6025 | Revision 02 | January 29, 2004.
A300-53-0201 | Revision 05 | July 15, 2004.
A300-53-6008 | Revision 05 | July 15, 2004.
A310-21-2041 | Revision 03 | January 29, 2004.
A310-53-2027 | Revision 04 | July 15, 2004.

Issued in Renton, Washington, on July 13, 2005.
Ali Bahrami,
Manager, Transport Airplane Directorate, Aircraft Certification Service.

[FR Doc. 05-14397 Filed 7-25-05; 8:45 am]

BILLING CODE 4910-13-P